DEPARTMENT OF HEALTH AND HUMAN SERVICES

Health Resources and Services Administration

Enhancing Systems of Care for Children With Medical Complexity Coordinating Center Funding Supplement

AGENCY: Health Resources and Services Administration (HRSA), Department of Health and Human Services.

ACTION: Announcing supplemental funding for Enhancing Systems of Care for Children with Medical Complexity Coordinating Center.

SUMMARY: HRSA will provide supplemental funding to the Enhancing Systems of Care for Children with Medical Complexity Coordinating Center during fiscal year 2023 to provide training, resources, and education to support states in their efforts to sustainably finance patient/family centered health care homes for children with medical complexity (CMC).

FOR FURTHER INFORMATION CONTACT: Anna Maria Padlan, Public Health Analyst, Division of Services for Children with Special Health Needs, Maternal and Child Health Bureau, Health Resources and Services Administration, at APadlan@hrsa.gov and 301-443-1737.

SUPPLEMENTARY INFORMATION:

Intended Recipient(s) of the Award: AcademyHealth.

Amount of Non-Competitive Award(s): $450,000/year. Supplemental funding for similar activities may be considered in fiscal year 2024, subject to availability of funding for the activity and satisfactory performance of the recipient.

Project Period: September 1, 2023, to August 31, 2024.

Assistance Listing (CFDA) Number: 93.110.

Award Instrument: Supplement for Services.

Authority: Social Security Act, Title V, Section§ 501(a)(2) (42 U.S.C. 701(a)(2).

Table 1—Recipient and Award Amount
Grant No. | Award recipient name | City, state | Award amount
UJ6MC45789 | AcademyHealth | Washington, DC | $450,000

Justification: The Enhancing Systems of Care for Children with Medical Complexity Coordinating Center provides national leadership through training, support, and education to five demonstration projects implementing patient/family centered models of care delivery. Additional funding is needed to create consistent and sustainable policies, strategies, and partnerships that every state can adapt when providing access to a patient and family centered health care home for all CMC and their families. Most CMC do not have access to high quality patient-centered care focused on their complex care needs and one key reason is lack of sustainable financing of these care models. As a result of this supplemental funding, (1) more states will receive training, education and resources to provide stable and sufficient financing for patient and family centered health care homes for all CMC; (2) common measures will be developed for use across federal programs; and (3) state and jurisdictional Title V programs will be better positioned to work with state Medicaid agencies regarding the needs of the maternal and child health population, especially children and youth with special health care needs/CMC. Because of the current grantee's work in Medicaid financing, implementation science, and the CMC population, they are best positioned to work with state Title V and Medicaid programs, as well as families, clinicians, health care organizations, and other stakeholders, to support state Medicaid and Title V agencies in their efforts.

HRSA will award $450,000 to the award recipient noted in Table I.

Carole Johnson,
Administrator.

[FR Doc. 2023-14870 Filed 7-12-23; 8:45 am]

BILLING CODE 4165-15-P